POSTAL SERVICE

39 CFR Part 111

Securing Bundles of Flats

AGENCY: Postal Service™.

ACTION: Proposed rule.

SUMMARY: The Postal Service is proposing to amend Mailing Standards of the United States Postal Service, Domestic Mail Manual (DMM®) to modify the requirements for securing bundles of flats.

DATES: Submit comments on or before July 15, 2024.

ADDRESSES: Mail or deliver written comments to the Director, Product Classification, U.S. Postal Service, 475 L'Enfant Plaza SW, Room 4446, Washington, DC 20260-5015. If sending comments by email, include the name and address of the commenter and send to PCFederalRegister@usps.gov, with a subject line of “Securing Bundles of Flats.” Faxed comments are not accepted.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: Dale Kennedy at (202) 268-6592 or Doriane Harley at (202) 268-2537.

SUPPLEMENTARY INFORMATION: All submitted comments and attachments are part of the public record and subject to disclosure. Do not enclose any material in your comments that you consider to be confidential or inappropriate for public disclosure.

Currently, the standards in DMM section 203.4.5 require bundles of flats to be secured with banding, shrinkwrap, or shrinkwrap plus one or more bands. Additionally, it allows the use of rubber bands and twine/string as banding materials on bundles of flats.

The Postal Service is proposing to amend the standards in DMM section DMM 203.4.4 to include an exemption for mailings of 500 flat-sized pieces or fewer entered at the BMEU from bundle preparation. Applicable mailings may be prepared loose in flat trays instead of in bundles. The Postal Service is also proposing to amend the standards in sections 203.4.5, 203.4.8, and 203.4.9 to require all bundles of flats to have two or more cross-strapped bands or be shrink-wrapped with two or more cross-strapped bands and to eliminate the use of rubber bands and twine/string for securing bundles of flats. Additionally, section 245.9.5(d) would be amended to reflect that shrink-wrapped multi carrier route bundles require two or more cross-strapped bands.

The Postal Service is proposing to implement this change effective August 18, 2024.

We believe that the proposed revisions will enable the Postal Service to process bundled flats in a more efficient manner.

Although exempt from the notice and comment requirements of the Administrative Procedure Act (5 U.S.C. 553(b), (c)) regarding proposed rulemaking by 39 U.S.C. 410(a), the Postal Service invites public comment on the proposed revisions to Mailing Standards of the United States Postal Service, Domestic Mail Manual (DMM), incorporated by reference in the Code of Federal Regulations.

We will publish an appropriate amendment to 39 CFR part 111 to reflect these changes if our proposal is adopted.

List of Subjects in 39 CFR Part 111

Administrative practice and procedure, Postal Service.

Accordingly, the Postal Service proposes the following changes to Mailing Standards of the United States Postal Service, Domestic Mail Manual (DMM), incorporated by reference in the Code of Federal Regulations (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Cards, Flats, and Parcels

* * * * *

203 Basic Postage Statement, Documentation, and Preparation Standards

* * * * *

4.0 Bundles

* * * * *

[Revise the title of 202.4.4 to read as follows:]

4.4 Exception to Bundle Preparation—Full Letter and Flat Trays and Small Flat Mailings

[Add a sentence at the end of 4.4 to read as follows:]

* * * In mailings of 500 or fewer flat-sized pieces, mailers are not required to prepare bundles and may place said pieces loose in flat trays.

4.5 Securing Bundles of Flats

Bundles must be able to withstand normal transit and handling without breakage or injury to USPS employees, and are subject to the following requirements:

[Revise the text of item (a) to read as follows:]

a. Bundles must be secured with two or more cross-strapped bands or shrink-wrapped with two or more cross-strapped bands. Banding includes plastic bands, and similar material. Use of wire or metal banding is not permitted.

[Delete current item (b) in its' entirety]

[Renumber item (c) as item (b); then revise the text to read as follows:]

b. Bundles must be cross-strapped (encircle the length and girth of the bundle at least once). Additional bands may be used if none lies within 1 inch of any bundle edge.

[Add a new item (c) to read as follows:]

c. Rubber bands and twine/string are not permitted to use as banding to secure bundles.

* * * * *

4.8 Preparing Bundles in Sacks and Flat Trays

In addition to following the standards in 4.5 through 4.7, mailers must prepare bundles placed in flat trays and sacks as follows: * * *

[Revise item (d) to read as follows:]

d. Bundles of pieces with covers of “coated stock” (glossy covers) that are not individually enclosed in an envelope or mailing wrapper must be secured with at least two plastic straps or with shrinkwrap plus two plastic straps and must not exceed 6 inches in height.

* * * * *

4.9 Preparing Bundles on Pallets

In addition to general bundling standards in 4.1, bundles on pallets must meet the following standards:

[Revise item 4.9(a) to read as follows:]

a. Bundles must be secured with appropriate banding or shrinkwrap supplemented by two or more bands. Banding includes plastic bands (recommended) or similar material.

* * * * *

245 Mail Preparation

* * * * *

9.0 Preparing Enhanced Carrier Route Flats

* * * * *

9.5 Multi Carrier Routes Bundle

A mailer may combine individual eligible bundles of USPS Marketing Mail Enhanced Carrier Route basic price mail into a multi carrier routes bundle of the same 5-digit ZIP Code under these conditions: * * *

[Revise the text of item 9.5(d) to read as follows:]

d. The multi carrier routes bundle must be secured with at least two cross-strapped bands, one around the length and one around the girth, or shrink-wrapped with two or more cross-strapped bands.

* * * * *

Christopher Doyle,
Attorney, Ethics and Legal Compliance.

[FR Doc. 2024-13152 Filed 6-13-24; 8:45 am]

BILLING CODE 7710-12-P